DEPARTMENT OF LABOR

Employment and Training Administration

[TA-W-51,539]

Divine Brothers Company, Utica, NY, Notice of Negative Determination Regarding Application for Reconsideration

By application of June 1, 2003, the Union of Needletrades, Industrial & Textiles Employees, Local 653-T requested administrative reconsideration of the Department's negative determination regarding eligibility for workers and former workers of the subject firm to apply for Trade Adjustment Assistance (TAA). The denial notice was signed on May 6, 2003 and published in the Federal Register on May 19, 2003 (68 FR 27107).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Divine Brothers Company, Inc., Utica, New York engaged in the production of industrial metal finishing products and supplies, was denied because criterion (2) was not met. Sales of industrial metal finishing products and supplies increased in 2002 compared to 2001 and remained relatively stable in January-March 2003 compared to the same period in 2002.

In the request for reconsideration, the union alleged that the closure of the Caster and Wheel Division (Truck Wheel) contributed to layoffs.

A company official stated that the company had made a decision to close the abovementioned division and that it closed in May of 2002. However, coinciding with the decline and ultimate closure of this division, other product lines produced by the company increased, which would explain the stable sales figures in the relevant period.

The union official also supplied information concerning allegations of layoffs of this division and bumping rights of employees under union agreements.

The petitioning workers were denied because sales and production did not decline in the relevant period, and workers are not separately identifiable, thus the information is irrelevant to a reconsideration of the original determination.

Conclusion

After review of the application and investigative findings, I conclude that there has been no error or misinterpretation of the law or of the facts which would justify reconsideration of the Department of Labor's prior decision. Accordingly, the application is denied.

Signed at Washington, DC, this 11th day of July, 2003.
Elliott S. Kushner,
Certifying Officer, Division of Trade Adjustment Assistance.

[FR Doc. 03-19222 Filed 7-28-03; 8:45 am]

BILLING CODE 4510-30-P